NUCLEAR REGULATORY COMMISSION

[Docket Nos. 50-424 and 50-425]

Southern Nuclear Operating Company, Inc.; Notice of Availability of the Final Supplement 34 to the Generic Environmental Impact Statement for License Renewal of Nuclear Plants, Regarding the License Renewal of Vogtle Electric Generating Plant, Units 1 and 2

Notice is hereby given that the U.S. Nuclear Regulatory Commission (NRC, Commission) has published a final plant-specific supplement to the “Generic Environmental Impact Statement for License Renewal of Nuclear Plants (GEIS),” (NUREG-1437 regarding the renewal of operating licenses NPF-068 and NPF-081 for an additional 20 years of operation for the Vogtle Electric Generating Plant, Units 1 and 2 (VEGP). VEGP is located in Burke County, Georgia, approximately 15 miles east-northeast of Waynesboro, GA, and 26 miles southeast of Augusta, GA. Possible alternatives to the proposed action (license renewal) include no action and reasonable alternative energy sources.

As discussed in Section 9.3 of the final Supplement 34, based on: (1) The analysis and findings in the GEIS; (2) the Environmental Report submitted by Southern Nuclear Operating Company, Inc.; (3) consultation with federal, state, and local agencies; (4) the NRC staff's own independent review; and (5) the NRC staff's consideration of public comments, the recommendation of the staff is that the Commission determine that the adverse environmental impacts of license renewal for VEGP are not so great that preserving the option of license renewal for energy-planning decision makers would be unreasonable.

The final Supplement 34 to the GEIS is publicly available at the NRC Public Document Room (PDR), located at One White Flint North, 11555 Rockville Pike, Rockville, Maryland 20852, or from the NRC's Agencywide Documents Access and Management System (ADAMS). The ADAMS Public Electronic Reading Room is accessible at http://adamswebsearch.nrc.gov/dologin.htm. The Accession Number for the final Supplement 34 to the GEIS is ML083380325. Persons who do not have access to ADAMS, or who encounter problems in accessing the documents located in ADAMS, should contact the NRC's PDR Reference staff by telephone at 1-800-397-4209, or 301-415-4737, or by e-mail at pdr.@nrc.gov. In addition, the Burke County Library, located at 130 Highway 24 South, Waynesboro, GA 30830, has agreed to make the final Supplement 34 to the GEIS available for public inspection.

FOR FURTHER INFORMATION CONTACT: Mr. Samuel Hernandez, Projects Branch 1, Division of License Renewal, Office of Nuclear Reactor Regulation, U.S. Nuclear Regulatory Commission, Mail Stop O-11F1, Washington, D.C. 20555-0001. Mr. Hernandez may be contacted by telephone at 1-800-368-5642, extension 4049 or via e-mail at samuel.hernandez@nrc.gov.

Dated at Rockville, Maryland, this 10th day of December, 2008.
For the Nuclear Regulatory Commission.
Brian E. Holian,
Director, Division of License Renewal, Office of Nuclear Reactor Regulation.

[FR Doc. E8-30350 Filed 12-19-08; 8:45 am]

BILLING CODE 7590-01-P